SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: October 1-31, 2014.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued October 1-31, 2014

1. XTO Energy Incorporated, Pad ID: Raymond Unit A, ABR-201107016, Pine Township, Columbia County, Pa.; Rescind Date: October 23, 2014.

2. XTO Energy Incorporated, Pad ID: Spiece Unit A, ABR-201107001, Jackson Township, Columbia County, Pa.; Rescind Date: October 23, 2014.

3. XTO Energy Incorporated, Pad ID: Glidewell Unit A, ABR-201105021, Pine Township, Columbia County, Pa.; Rescind Date: October 23, 2014.

4. XTO Energy Incorporated, Pad ID: Raymond Unit B, ABR-201103034, Pine Township, Columbia County, Pa.; Rescind Date: October 23, 2014.

5. XTO Energy Incorporated, Pad ID: Litwheler Unit A, ABR-201103032, Pine Township, Columbia County, Pa.; Rescind Date: October 23, 2014.

6. XTO Energy Incorporated, Pad ID: Levan 8532H, ABR-201011018, Pine Township, Columbia County, Pa.; Rescind Date: October 23, 2014.

7. XTO Energy Incorporated, Pad ID: Levan 8526H, ABR-201010001, Pine Township, Columbia County, Pa.; Rescind Date: October 23, 2014.

8. XTO Energy Incorporated, Pad ID: FOX 8501H, ABR-201009062, Shrewsbury Township, Lycoming County, Pa.; Rescind Date: October 23, 2014.

9. XTO Energy Incorporated, Pad ID: Kepner 8503H, ABR-20100209, Shrewsbury Township, Lycoming County, Pa.; Rescind Date: October 23, 2014.

10. XTO Energy Incorporated, Pad ID: TLT, ABR-20100203, Jordon Township, Lycoming County, Pa.; Rescind Date: October 23, 2014.

11. XTO Energy Incorporated, Pad ID: Renn9506H, ABR-201011020, Jordon Township, Lycoming County, Pa.; Rescind Date: October 23, 2014.

12. Range Resources Appalachia, LLC, Pad ID: Ritzenthaler Living Trust Unit #1H-#4H, ABR-201104012, Gamble Township, Lycoming County, Pa.; Rescind Date: October 23, 2014.

13. Samson Exploration, LLC, Pad ID: Pardee & Curtin Lumber Co. C-04, ABR-20100115, Lumber Township, Cameron County, Pa.; Rescind Date: October 23, 2014.

Authority: Public Law 91-575, 84 Stat. 1509 et seq., 18 CFR parts 806, 807, and 808.

Dated: February 4, 2015.
Stephanie L. Richardson,
Secretary to the Commission.

[FR Doc. 2015-02939 Filed 2-11-15; 8:45 am]

BILLING CODE 7040-01-P